LEGAL SERVICES CORPORATION

Sunshine Act Meeting of the Board of Directors

TIME AND DATE: The Legal Services Corporation's Board of Directors will meet by teleconference on Tuesday, August 1, 2000, at 4 p.m. EDT.

STATUS OF MEETING: Open.

LOCATION: Members of the Board will participate by way of telephonic conferencing equipment allowing them all to hear one another. Members of the Corporation's staff and the public will be able to hear and participate in the meeting by means of telephonic conferencing equipment set up for this purpose in the Corporation's Conference Room, on the 11th floor of 750 First Street, NE., Washington, DC 20002.

MATTERS TO BE CONSIDERED:

1. Approval of agenda.

2. Consider and act on a proposed resolution recognizing and thanking the law firm of Nelson, Mullins, Riley & Scarborough for their pro bono representation of LSC in the case of Regional Management Corp. et al. v. Legal Services Corporation.

3. Consider and act on a proposed resolution recognizing and thanking the law firm of Porter, Wright, Morris & Arthur for their pro bono representation of LSC in the case of Ashtabula County Legal Aid Corporation v. Legal Services Corporation.

4. Consider and act on proposed extension of John McKay's tenure as President of LSC to September 30, 2001.

5. Consider and act on other business.

CONTACT PERSON FOR INFORMATION: Victor M. Fortuno, Vice President for Legal Affairs, General Counsel & Secretary, (202) 336-8800.

SPECIAL NEEDS: Upon request, meeting notices will be made available in alternate formats to accommodate visual and hearing impairments. Individuals who have a disability and need an accommodation to attend the meeting may notify Shannon N. Adaway, at (202) 336-8800.

Dated: July 25, 2000.
Victor M. Fortuno,
Vice President of Legal Affairs, General Counsel & Corporate Secretary.

[FR Doc. 00-19200 Filed 7-25-00; 4:59 pm]

BILLING CODE 7050-01-P